DEPARTMENT OF THE TREASURY

Internal Revenue Service

26 CFR Part 1

[REG-127895-14]

RIN 1545-BM33

Dividend Equivalents From Sources Within the United States; Correction

AGENCY: Internal Revenue Service (IRS), Treasury.

ACTION: Correction to notice of proposed rulemaking.

SUMMARY: This document contains corrections to a notice of proposed rulemaking (REG-127894-14) that was published in the Federal Register on Friday, September 18, 2015 (80 FR 56415). The proposed regulations provide guidance relating to the substantial equivalence test, which is used to determine whether a complex contract is a section 871(m) transaction.

DATES: Written or electronic comments and request for a public hearing for the notice of proposed rulemaking at 80 FR 56415, September 18, 2015, are still being accepted and must be received by December 17, 2015.

ADDRESSES: Send submissions to CC:PA:LPD:PR (REG-127895-14), Room 5203, Internal Revenue Service, P.O. Box 7604, Ben Franklin Station, Washington, DC 20044. Submissions may be hand delivered Monday through Friday between the hours of 8 a.m. and 4 p.m. to CC:PA:LPD:PR (REG-127895-14), Courier's desk, Internal Revenue Service, 1111 Constitution Avenue NW., Washington, DC 20224, or sent electronically, via the Federal eRulemaking Portal at www.regulations.gov (IRS REG-127895-14). The public hearing will be held in the IRS Auditorium, Internal Revenue Building, 1111 Constitution Avenue NW., Washington, DC.

FOR FURTHER INFORMATION CONTACT: D. Peter Merkel or Karen Walny, at (202) 317-6938 (not a toll-free number).

SUPPLEMENTARY INFORMATION:

Background

The notice of proposed rulemaking that is the subject of this document is under section 871(m) of the Internal Revenue Code.

Need for Correction

As published, the notice of proposed rulemaking (REG-127895-14) contains errors that are misleading and are in need of clarification.

Correction to Publication

Accordingly, the notice of proposed rulemaking, that is the subject of FR Doc. 2015-21753, is corrected as follows:

1. On page 56415, in the third column, add a SUMMARY section to read as follows:

SUMMARY: This document provides guidance to nonresident alien individuals and foreign corporations that hold certain financial products providing for payments that are contingent upon or determined by reference to U.S. source dividend payments. This document also provides guidance to withholding agents that are responsible for withholding U.S. tax with respect to a dividend equivalent.

§ 1.871-15 [Corrected]

2. On page 56416, second column, the second and third lines of amendatory instruction 2, the language “by revising paragraph (c)(2)(vi) and paragraph (h) to read as follows:” is corrected to read “by revising paragraphs (c)(2)(iv), (h), and (q) to read as follows:”.

§ 1.1441-1 [Corrected]

3. On page 56416, second column, the first and second lines of amendatory instruction 3, the language “by revising paragraph (e)(3)(vii) and paragraph (e)(6) to read as follows:” is corrected to read “by revising paragraphs (e)(3)(ii)(E), (e)(5), and (e)(6) to read as follows:”.

Martin V. Franks,
Chief, Publications and Regulations Branch, Legal Processing Division, Associate Chief Counsel (Procedure and Administration).

[FR Doc. 2015-30779 Filed 12-4-15; 8:45 am]

BILLING CODE 4830-01-P